DEPARTMENT OF HOMELAND SECURITY

[Docket No. DHS-2013-0071]

Homeland Security Science and Technology Advisory Committee (HSSTAC)

AGENCY: Science and Technology Directorate, DHS.

ACTION: Committee Management; Notice of Federal Advisory Committee Meeting.

SUMMARY: The Homeland Security Science and Technology Advisory Committee (HSSTAC) will meet on December 4-5, 2013, in Washington, DC The meeting will be open to the public.

DATES: The HSSTAC will meet Wednesday, December 4, 2013, 9:00 a.m.-4:00 p.m. and December 5, 2013 9:00 a.m.-4:30 p.m. The meeting may close early if the committee has completed its business.

ADDRESSES: The meeting will be held at the Department of Homeland Security (DHS), Science and Technology Directorate, 1120 Vermont Avenue NW., (Room 5-212), Washington DC.

All visitors must pre-register and present a government-issued ID in order to gain entry to the building. To register, please contact the person listed under FOR FURTHER INFORMATION CONTACT, below. Please provide your name, citizenship, organization (if any), title (if any), email address (if any), and telephone number.

For information on facilities or services for individuals with disabilities or to request special assistance at the meeting, contact the person listed under For Further Information Contact, below.

Materials that are provided to committee members will also be provided to the public, either at the meeting or on the public Web site mentioned below, or both. Check this Web site on the meeting dates: http://www.dhs.gov/st-hsstac. To facilitate public participation, we invite public comment on the issues to be considered by the committee as listed in the SUPPLEMENTARY INFORMATION below. Comments may be submitted orally, in writing, or both. If submitting in writing, please include the docket number (DHS-2013-0071) and submit via one of the following methods before December 2, 2013:

• Federal eRulemaking Portal: http://www.regulations.gov. Follow the instructions for submitting comments.

• Email: mary.hanson@hq.dhs.gov. Include the docket number in the subject line of the message.

• Fax: 202-254-6176.

• Mail: Mary Hanson, HSSTAC Executive Director, Science and Technology Directorate, Department of Homeland Security, 245 Murray Lane, Bldg. 410, Washington, DC 20528 Instructions: All submissions received must include the words “Department of Homeland Security” and the docket number. Comments received will be posted without alteration at http://www.regulations.gov, including any personal information provided.

Docket: For access to the docket to read background documents or comments received by the HSSTAC, go to http://www.regulations.gov and type “HSSTAC” into the search function of the Web site.

A period is allotted for oral public comment on December 4 and 5, 2013, before any recommendations are formulated. Speakers are asked to pre-register and limit their comments to three minutes or less. Please note that the public comment period may end before the time indicated, following the last call for comments. To register as a speaker, contact the person listed below.

FOR FURTHER INFORMATION CONTACT: Mary Hanson, HSSTAC Executive Director, Science and Technology Directorate, Department of Homeland Security, 245 Murray Lane, Bldg. 410, Washington, DC 20528, 202-254-5866 (O), 202-254-5823 (F), mary.hanson@hq.dhs.gov.

SUPPLEMENTARY INFORMATION: Notice of this meeting is given under the Federal Advisory Committee Act (FACA), 5 U.S.C. Appendix (Pub. L. 92-463). The HSSTAC was established and operates in accordance with the provisions of the FACA. The committee addresses areas of interest and importance to the Under Secretary for Science and Technology, such as new developments in systems engineering, cyber-security, knowledge management and how best to leverage related technologies funded by other federal agencies and by the private sector. It also advises the Under Secretary on policies, management processes, and organizational constructs as needed.

Agenda: Members will meet with the Acting Under Secretary and other executives of the DHS Science and Technology Directorate (DHS S&T) to hear updates, discuss areas of concern, and receive taskings. Agenda items on December 4 include an update on the status of the DHS Science and Technology Directorate (DHS S&T), a brief about the DHS S&T Resilient Systems Division, a discussion about industry engagement with DHS S&T, and a status report from the HSSTAC Task Force on Third Party Pre-Screening, followed by a public comment period, committee deliberations, and DHS taskings to the committee. The agenda on December 5 focuses solely on the interaction between DHS S&T and Customs and Border Protection (CBP). An official from CBP will first give a CBP overview, followed by a discussion among officials from CBP and DHS S&T about CBP's technology needs, how DHS S&T supports those needs, and how that support can be improved. A public comment period will follow the discussion. The committee will then deliberate, receive its tasking from DHS, and begin to develop written recommendations regarding how DHS S&T can better support CBP.

Dated: October 29, 2013.
Mary Hanson,
Executive Director, Homeland Security Science and Technology Advisory Committee.

[FR Doc. 2013-26605 Filed 11-6-13; 8:45 am]

BILLING CODE 9110-9F-P